ENVIRONMENTAL PROTECTION AGENCY

40 CFR Part 300

[EPA-HQ-SFUND-1983-0002, EPA-HQ-SFUND-1986-0005, EPA-HQ-SFUND-1987-0002, EPA-HQ-SFUND-1989-0011, EPA-HQ-SFUND-1990-0010, EPA-HQ-SFUND-1990-0011, EPA-HQ-SFUND-1993-0001, EPA-HQ-SFUND-2000-0004, EPA-HQ-SFUND-2002-0008, EPA-HQ-SFUND-2003-0010, EPA-HQ-SFUND-2005-0011, EPA-HQ-SFUND-2006-0759, EPA-HQ-SFUND-2009-0587, EPA-HQ-SFUND-2011-0076, EPA-HQ-SFUND-2011-0077; FRL-8923-03-OLEM]

Deletions From the National Priorities List

AGENCY: Environmental Protection Agency (EPA).

ACTION: Final rule.

SUMMARY: The Environmental Protection Agency (EPA) announces the deletion of nine sites and the partial deletion of eleven sites from the Superfund National Priorities List (NPL). The NPL, created under the Comprehensive Environmental Response, Compensation, and Liability Act (CERCLA) of 1980, as amended, is an appendix of the National Oil and Hazardous Substances Pollution Contingency Plan (NCP). The EPA and the states, through their designated state agencies, have determined that all appropriate response actions under CERCLA, other than operation and maintenance, monitoring, and five-year reviews, where applicable, have been completed. However, this deletion does not preclude future actions under Superfund.

DATES: Effective on September 14, 2021.

ADDRESSES:

Docket: EPA has established a docket for this action under the Docket Identification included in Table 1 in the SUPPLEMENTARY INFORMATION section of this document. All documents in the docket are listed on the https://www.regulations.gov website. Although listed in the index, some information is not publicly available, i.e., Confidential Business Information or other information whose disclosure is restricted by statute. Certain other material, such as copyrighted material, is not placed on the internet and will be publicly available only in hard copy form. Publicly available docket materials are available either electronically through https://www.regulations.gov or in hard copy at the corresponding Regional Records Centers. Locations, addresses, and phone numbers-of the Regional Records Centers follow.

Regional Records Centers:

• Region 2 (NJ, NY, PR, VI), U.S. EPA, 290 Broadway, New York, NY 10007-1866; 212/637-430842.

• Region 3 (DE, DC, MD, PA, VA, WV), U.S. EPA, Library, 1650 Arch Street, Mail code 3SD42, Philadelphia, PA 19103; 215/814-3024.

• Region 4 (AL, FL, GA, KY, MS, NC, SC, TN), U.S. EPA, 61 Forsyth Street SW, Mail code 9T25, Atlanta, GA 30303; 404/562-8637.

• Region 5 (IL, IN, MI, MN, OH, WI), U.S. EPA Superfund Division Records Manager, Mail code SRC-7J, Metcalfe Federal Building, 7th Floor South, 77 West Jackson Boulevard, Chicago, IL 60604; 312/886-4465.

• Region 7 (IA, KS, MO, NE), U.S. EPA, 11201 Renner Blvd., Mail code SUPR, Lenexa, KS 66219; 913/551-7956.

• Region 8 (CO, MT, ND, SD, UT, WY), U.S. EPA, 1595 Wynkoop Street, Mail code Records Center, Denver, CO 80202-1129; 303/312-7273.

• Region 10 (AK, ID, OR, WA), U.S. EPA, 1200 6th Avenue, Suite 155, Mail stop OMP-161, Seattle, WA 98101; 206/553-4494.

The EPA is temporarily suspending Regional Records Centers for public visitors to reduce the risk of transmitting COVID-19. Information in these repositories, including the deletion docket, may not be updated with hardcopy or electronic media. For further information and updates on EPA Docket Center services, please visit us online at https://www.epa.gov/dockets.

The EPA continues to carefully and continuously monitor information from the Centers for Disease Control and Prevention (CDC), local area health departments, and our Federal partners so that we can respond rapidly as conditions change regarding COVID.

FOR FURTHER INFORMATION CONTACT:

• Mabel Garcia, U.S. EPA Region 2 (NJ, NY, PR, VI), garcia.mabel@epa.gov, 212/637-4356

• Andrew Hass, U.S. EPA Region 3 (DE, DC, MD, PA, VA, WV), hass.andrew@epa.gov, 215/814-2049

• Leigh Lattimore or Brian Farrier, U.S. EPA Region 4 (AL, FL, GA, KY, MS, NC, SC, TN), lattimore.leigh@epa.gov or farrier.brian@epa.gov, 404/562-8768 or 404/562-8952.

• Karen Cibulskis, U.S. EPA Region 5 (IL, IN, MI, MN, OH, WI), cibulskis.karen@epa.gov, 312/886-1843

• David Wennerstrom, U.S. EPA Region 7 (IA, KS, MO, NE), wennerstrom.david@epa.gov, 913/551-7996

• Linda Kiefer, U.S. EPA Region 8 (CO, MT, ND, SD, UT, WY), kiefer.linda@epa.gov, 303/312-6689

• Linda Meyer, U.S. EPA Region 10 (AK, ID, OR, WA), meyer.linda@epa.gov, 206/553-6636

• Chuck Sands, U.S. EPA Headquarters, sands.charles@epa.gov, 703/603-8857

SUPPLEMENTARY INFORMATION: The NPL, created under section 105 of CERCLA, as amended, is an appendix of the NCP. The NCP establishes the criteria that EPA uses to delete sites from the NPL. In accordance with 40 CFR 300.425(e), sites may be deleted from the NPL where no further response is appropriate. Partial deletion of sites is in accordance with 40 CFR 300.425(e) and are consistent with the Notice of Policy Change: Partial Deletion of Sites Listed on the National Priorities List, 60 FR 55466, (November 1, 1995). The sites to be deleted and partially deleted from the NPL are listed in Table 1, including docket information containing reference documents with the rationale and data principally relied upon by the EPA to determine that the Superfund response is complete. The NCP permits activities to occur at a deleted site, or that media or parcel of a partially deleted site, including operation and maintenance of the remedy, monitoring, and five-year reviews. These activities for the site are entered in Table 1 in this SUPPLEMENTARY INFORMATION section, if applicable, under Footnote such that; 1=site has continued operation and maintenance of the remedy, 2=site receives continued monitoring, and 3=site five-year reviews are conducted. As described in 40 CFR 300.425(e)(3) of the NCP, a site or portion of a site deleted from the NPL remains eligible for Fund-financed remedial action if future conditions warrant such actions.

Table 1
Site name | City/county, state | Type | Docket No. | Footnote
Reich Farms | Pleasant Plains, NJ | Full | EPA-HQ-SFUND-1983-0002 | 2, 3
Butler Mine Tunnel | Pittston, PA | Full | EPA-HQ-SFUND-1987-0002 |
Airco | Calvert City, KY | Full | EPA-HQ-SFUND-2005-0011 | 1, 2, 3
Chemfax, Inc | Gulfport, MS | Partial | EPA-HQ-SFUND-1993-0001 | 1, 2, 3
Kerr-McGee Chemical Corp-Navassa | Navassa, NC | Partial | EPA-HQ-SFUND-2009-0587 |
T.H. Agriculture & Nutrition (Montgomery) | Montgomery, AL | Partial | EPA-HQ-SFUND-1990-0011 | 1, 2, 3
US Finishing/Cone Mills | Greenville, SC | Partial | EPA-HQ-SFUND-2011-0077 |
Arrowhead Refinery Co | Hermantown, MN | Full | EPA-HQ-SFUND-2005-0011 | 2, 3
Barrels, Inc | Lansing, MI | Full | EPA-HQ-SFUND-1989-0011 | 1, 3
Bennett Stone Quarry | Bloomington, IN | Full | EPA-HQ-SFUND-2005-0011 | 1, 2, 3
Lemon Lane Landfill | Bloomington, IN | Full | EPA-HQ-SFUND-1983-0002 | 1, 2, 3
South Minneapolis Residential Soil Contamination | Minneapolis, MN | Partial | EPA-HQ-SFUND-2006-0759 |
United Scrap Lead Co., Inc | Troy, OH | Full | EPA-HQ-SFUND-2005-0011 | 1, 3
Neal's Landfill (Bloomington) | Bloomington, IN | Full | EPA-HQ-SFUND-1983-0002 | 1, 2, 3
Missouri Electric Works | Cape Girardeau, MO | Partial | EPA-HQ-SFUND-1990-0010 | 1, 3
Omaha Lead | Omaha, NE | Partial | EPA-HQ-SFUND-2003-0010 | 1, 3
Riverfront | New Haven, MO | Partial | EPA-HQ-SFUND-2000-0004 | 1, 2, 3
Libby Asbestos | Libby, MT | Partial | EPA-HQ-SFUND-2002-0008 | 1, 3
Eagle Mine | Minturn/Redcliff, CO | Partial | EPA-HQ-SFUND-1986-0005 | 1, 3
North Ridge Estates | Klamath Falls, OR | Partial | EPA-HQ-SFUND-2011-0076 | 1, 3

Information concerning the sites to be deleted and partially deleted from the NPL, the proposed rule for the deletion and partial deletion of the sites, and information on receipt of public comment(s) and preparation of a Responsiveness Summary (if applicable) are included in Table 2 as follows:

Table 2
Site name | Date, proposed rule | FR citation | Public comment | Responsiveness summary | Full site deletion (full) or media/ parcels/description for partial deletion
Reich Farms | 5/14/2021 | 86 FR 26452 | Yes | No | Full.
Butler Mine Tunnel | 5/14/2021 | 86 FR 26452 | Yes | Yes | Full.
Airco | 5/14/2021 | 86 FR 26452 | No | No | Full.
Chemfax, Inc | 5/14/2021 | 86 FR 26452 | No | No | 11-acres of soils, sediments.
Kerr-McGee Chemical Corp-Navassa | 5/14/2021 | 86 FR 26452 | No | No | 20.2-acres Operable Unit (OU) 1 soils.
T.H. Agriculture & Nutrition (Montgomery) | 5/14/2021 | 86 FR 26452 | No | No | 16.4-acres soils/sediments.
US Finishing/Cone Mills | 5/14/2021 | 86 FR 26452 | No | No | 150-acres OU 2 with soils, sediments and surface water.
Arrowhead Refinery Co | 5/14/2021 | 86 FR 26452 | No | No | Full.
Barrels, Inc | 5/14/2021 | 86 FR 26452 | No | No | Full.
Bennett Stone Quarry | 5/14/2021 | 86 FR 26452 | Yes | No | Full.
Lemon Lane Landfill | 5/14/2021 | 86 FR 26452 | Yes | No | Full.
South Minneapolis Residential Soil Contamination | 5/14/2021 | 86 FR 26452 | No | No | Five of remaining nine properties on NPL.
United Scrap Lead Co., Inc | 5/14/2021 | 86 FR 26452 | No | No | Full.
Neal's Landfill (Bloomington) | 5/14/2021 | 86 FR 26452 | Yes | No | Full.
Missouri Electric Works | 5/14/2021 | 86 FR 26452 | No | No | 6.4-acre site property OU 1 soils and OU 3 sediments.
Omaha Lead | 5/14/2021 | 86 FR 26452 | No | No | 96 residential parcels.
Riverfront | 5/14/2021 | 86 FR 26452 | No | No | 1.4-acre OU 3 Old City Dump soil, groundwater, surface water, seeps.
Libby Asbestos | 5/14/2021 | 86 FR 26452 | No | No | OU 8 Roads and Highways (30 miles of roads and right-of-way).
Eagle Mine | 5/14/2021 | 86 FR 26452 | Yes | Yes | 50-acre OU 2 Town of Gilman soils.
North Ridge Estates | 5/14/2021 | 86 FR 26452 | No | No | 125-acre OU 1 includes Northridge Estates and former Marine Recuperation Barracks soils.

For all sites proposed for deletion, the closing date for comments in the proposed rule was June 14, 2021. The EPA received comments on six of the sites included for deletion or partial deletion in this final rule. The Bennett Stone Quarry site and the Lemon Lane Landfill site each received one public comment supportive of the proposed deletion. The Neal's Landfill (Bloomington) site received two public comments supportive of the deletion. Because no adverse comment was received for these three sites, no Responsiveness Summaries were prepared.

The Reich Farms site received an inquiry concerning the proposed deletion action. EPA responded to the inquiry by providing information available in the deletion docket to the commenter. Because the comment was not adverse to the proposed deletion of the Reich Farms site, EPA did not prepare a Responsiveness Summary. EPA still believes the deletion action is appropriate. EPA placed the comment and a memorandum explaining EPA's response to the inquiry in the docket, EPA-HQ-SFUND-1983-0002, on https://www.regulations.gov, and in the Regional repository listed in the Addresses section.

The Butler Mine Tunnel site received one written comment and EPA prepared a Responsiveness Summary. The commentor did not agree with EPA's decision to delete the Butler Mine Tunnel Site from the NPL. The commentor did express concern that the storm drains in their town may be connected to boreholes which convey stormwater into underground mines. The commentor requested an investigation of their concerns, including the collection of air samples and use of camera system. Finally, the commentor expressed concern that cancer cases in their community are located near storm drains. The commentor did not specify what boreholes or underground mines they are concerned about, and did not provide their address/location, or the name of the town they refer to in their comment. The commentor did not offer any information specific to the Butler Mine Tunnel site to demonstrate that NPL deletion criteria were not met. EPA has determined that it is appropriate to proceed with the deletion because all response actions at the site are complete and the criteria for deletion have been met. A Responsiveness Summary was prepared and placed in the docket, EPA-HQ-SFUND-1987-0002, on https://www.regulations.gov, and in the Regional repository listed in the ADDRESSES section.

The Eagle Mine site received one comment. The commenter requested clarification regarding the purpose of the proposed partial deletion of OU2, the Town of Gilman, and an explanation as to what differentiates the Gilman portion of OU2 from other sources of contamination at the site. The purpose of the proposed deletion is to document cleanup completion of the Eagle Mine Superfund Site OU2. All response requirements in the OU2 Record of Decision are implemented and as such, OU2 qualifies for partial deletion from the NPL. EPA has determined that it is appropriate to proceed with the deletion because all response actions at the site are complete and the criteria for partial deletion have been met. A Responsiveness Summary was prepared and placed in the docket, EPA-HQ-SFUND-1986-0005, on https://www.regulations.gov, and in the Regional repository listed in the ADDRESSES section.

For all other sites not specified above, no adverse comments were received.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Natural resources, Oil pollution, Penalties, Reporting and recordkeeping requirements, Superfund, Water pollution control, Water supply.

Dated: September 2, 2021.
Larry Douchand,
Office Director, Office of Superfund Remediation and Technology Innovation.

For reasons set out in the preamble, the EPA amends 40 CFR part 300 as follows:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. In appendix B to part 300 amend Table 1 by:

a. Revising the entries for “AL, T.H. Agriculture & Nutrition (Montgomery), Montgomery”; “CO, Eagle Mine, Minturn/Redcliff”;

b. Removing the entries for “IN, Bennett Stone Quarry, Bloomington”; “IN, Lemon Lane Landfill, Bloomington”; “IN, Neal's Landfill (Bloomington), Bloomington”; “KY, Airco, Calvert City”; “MI, Barrels, Inc., Lansing”; “MN, Arrowhead Refinery Co., Hermantown”;

c. Revising the entries for “MO, Missouri Electric Works, Cape Girardeau”; “MO, Riverfront, New Haven”; “MS, Chemfax, Inc., Gulfport”; “NC, Kerr-McGee Chemical Corp-Navassa, Navassa”;

d. Removing the entries for “NJ, Reich Farms, Pleasant Plains”; “OH, United Scrap Lead Co., Inc., Troy”;

e. Revising the entry for “OR, North Ridge Estates, Klamath Falls”;

f. Removing the entry for “PA, Butler Mine Tunnel, Pittston”; and

g. Revising the entry for “SC, US Finishing/Cone Mills, Greenville”.

The revisions read as follows:

Appendix B to Part 300—National Priorities List

Table 1—General Superfund Section
State | Site name | City/county | Notes (a)
AL | T.H. Agriculture & Nutrition (Montgomery) | Montgomery | P
* * * * * * *
CO | Eagle Mine | Minturn/Redcliff | P
* * * * * * *
MO | Missouri Electric Works | Cape Girardeau | P
* * * * * * *
MO | Riverfront | New Haven | P
* * * * * * *
MS | Chemfax, Inc | Gulfport | P
* * * * * * *
NC | Kerr-McGee Chemical Corp-Navassa | Navassa | P
* * * * * * *
OR | North Ridge Estates | Klamath Falls | P
* * * * * * *
SC | US Finishing/Cone Mills | Greenville | P
* * * * * * *
* P = Sites with partial deletion(s).

[FR Doc. 2021-19448 Filed 9-13-21; 8:45 am]

BILLING CODE 6560-50-P